DEPARTMENT OF LABOR

Occupational Safety and Health Administration

[Docket No. ICR-1218-0197(2000)]

Construction Standards on Fall Protection Systems Criteria and Practice and Training Requirements; Extension of the Office of Management and Budget's (OMB) Approval of Information-Collection (Paperwork) Requirements

AGENCY: Occupational Safety and Health Administration (OSHA), Labor.

ACTION: Notice of an opportunity for public comment.

SUMMARY: OSHA solicits comments concerning its request for an extension of the information-collection requirements contained in its standards titled, “Fall Protection Systems Criteria and Practice” (29 CFR 1926.502) and “Training Requirements” (29 CFR 1926.503).

Request for Comment: The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before November 27, 2000.

ADDRESSES: Submit written comments to the Docket Office, Docket No. ICR-1218-0197(2000), OSHA, U.S. Department of Labor, Room N-2625, 200 Constitution Avenue, NW., Washington, DC 20210; telephone: (202) 693-2350. Commenters may transmit written comments of 10 pages or less in length by facsimile to (202) 693-1648.

FOR FURTHER INFORMATION CONTACT: Kathleen Martinez, Directorate of Policy, OSHA, U.S. Department of Labor, Room N-3641, 200 Constitution Avenue, NW., Washington, DC 20210; telephone: (202) 693-2444. A copy of the Agency's Information-Collection Request (ICR) supporting the need for the information-collection requirements specified by its standards on Fall Protection Systems Criteria and Practice and Training Requirements is available for inspection and copying in the Docket Office, or you may request a mailed copy by telephoning Kathleen Martinez at (202) 693-2444. For electronic copies of this ICR, contact OSHA on the Internet at http://www.osha.gov.

SUPPLEMENTARY INFORMATION:

I. Background

The Department of Labor, as part of its continuing effort to reduce paperwork and respondent burden, conducts a preclearance consultation program to provide the general public and Federal agencies with an opportunity to comment on proposed and continuing information- collection requirements in accordance with the Paperwork Reduction Act of 1995 (PRA-95) (44 U.S.C. 3506(c)(2)(A)). This program ensures that information is in the desired format, reporting burden (time and costs) is minimal, collection instruments are clearly understood, and OSHA's estimate of the information burden is correct. The Occupational Safety and Health Act of 1970 (the Act) authorizes information collection by employers as necessary or appropriate for enforcement of the Act or for developing information regarding the causes and prevention of occupational injuries, illnesses, and accidents (29 U.S.C. 657).

The standards on Fall Protection Systems Criteria and Practice (29 CFR 1926.502) and Training Requirements (29 CFR 1926.503) ensure that employers provide the required fall protection for their employees. These standards have the following paperwork requirements: Paragraphs (c)(4)(i) and (k) of 29 CFR 1926.502, which require certification of safety nets and development of fall-protection plans, respectively, and paragraph (b) of 29 CFR 1926.502, which specifies that employers certify training records. The requirement to certify safety nets is an option available to employers who demonstrate that performing a drop test on safety nets is unreasonable; this provision allows such employers to certify that their safety nets are as protective as safety nets that meet the drop-test criteria. Fall-protection plans are available to employers who have employees engaged in leading-edge work, precast-concrete-erection work, or residential construction who provide evidence that using only conventional fall-protection equipment is infeasible or is more hazardous than the fall-protection alternative described in the fall-protection plan. The training-certification requirement documents the training provided by an employer to employees potentially exposed to fall hazards; this training includes recognizing fall hazards, and using procedures and equipment that minimize these hazards.

II. Proposed Actions

OSHA proposes to extend OMB's approval of the collection-of-information (paperwork) requirements contained in its standards on Fall Protection Systems Criteria and Practice and Training Requirements. The Agency will summarize the comments submitted in response to this notice, and will include this summary in the request to OMB to extend the approval of the information-collection requirements contained in these standards.

Type of Review: Extension of currently approved information-collection requirements.

Title: Fall Protection Systems Criteria and Practice (29 CFR 1926.502) and Training Requirements (29 CFR 1926.503).

OMB Number: 1218-0197.

Affected Public: Business or other for-profit organizations; Federal, State, Local, or Tribal governments.

Number of Respondents: 100,000.

Frequency: On occasion.

Average Time per Response: Variable (i.e., 5 minutes to certify a safety net; 65 minutes to develop and write a fall-protection plan; and 5 minutes to certify training).

Estimated Total Burden Hours: 767,246 hours.

III. Authority and Signature

Charles N. Jeffress, Assistant Secretary of Labor for Occupational Safety and Health, directed the preparation of this notice. The authority for this notice is the Paperwork Reduction Act of 1995 (44 U.S.C. 3506) and Secretary of Labor's Order No 3-2000 (65 FR 50017).

Signed at Washington, DC on September 19, 2000.
Charles N. Jeffress,
Assistant Secretary of Labor.

[FR Doc. 00-24805 Filed 9-26-00; 8:45 am]

BILLING CODE 4510-26-P